CHEMICAL SAFETY AND HAZARD INVESTIGATION BOARD

Privacy Act of 1974; Publication of Notice of Systems of Records and Proposed Routine Uses

AGENCY: Chemical Safety and Hazard Investigation Board.

ACTION: Notice.

SUMMARY: In accordance with the requirements of the Privacy Act of 1974, and its Privacy Act regulations, the Chemical Safety and Hazard Investigation Board (“CSB” or “Board”) is publishing a notice of the systems of records the CSB maintains on individuals. In this notice, the CSB provides the required information on seven such systems of records. A final rule containing the Board's Privacy Act regulations is published elsewhere in this issue of the Federal Register.

DATES: The systems of records included in this notice will take effect on April 30, 2001, unless the Office of Management and Budget (OMB) gives notice before that date that the systems are not approved for implementation. The proposed routine uses will become effective without further notice on May 3, 2001, unless changes are required by public comments or OMB review. The Board will publish any such changes to the routine uses.

ADDRESSES: Written comments on the proposed routine uses may be sent to: Christopher Kirkpatrick, Chemical Safety and Hazard Investigation Board, 2175 K Street, NW, Suite 400, Washington, DC 20037-1809.

FOR FURTHER INFORMATION CONTACT: Christopher Kirkpatrick, (202) 261-7619.

SUPPLEMENTARY INFORMATION: The Privacy Act of 1974, 5 U.S.C. 552a(e)(4), directs each federal agency to provide notice to the public of systems of records it maintains on individuals. Notice is hereby given of seven systems of records maintained by the CSB, as described below. This notice also describes proposed routine uses of each system and provides contact information for inquiries.

The Board is concurrently publishing a final rule containing its Privacy Act regulations in the Rules section of this issue of the Federal Register. In the interim before the regulations take effect, access to and correction of individual records will be available by contacting the Board's Privacy Act Officer.

Following is the complete text of the seven Chemical Safety and Hazard Investigation Board systems of records.

(Authority: 5 U.S.C. 552a(e)(4); 42 U.S.C. 7412 et seq.)
Dated: March 21, 2001.
Christopher W. Warner,
General Counsel.

Notice of Systems of Records, Preliminary Statement

Government-wide Systems of Records

In addition to the internal systems of records described below, the CSB also maintains certain records covered by government-wide systems of records. Government-wide systems of records are established by Federal agencies, such as the Office of Personnel Management (OPM) and the Equal Employment Opportunity Commission (EEOC), that are responsible for government-wide functions. These systems are described in notices published by the establishing agency. While the establishing agency creates and administers the system, the actual records are physically maintained at agencies throughout the government, such as the CSB. Requests for CSB records covered by a government-wide system of records should be directed to the CSB. In accordance with the directive of Office of Management and Budget (OMB) Circular No. A-130, the CSB is not creating or publishing internal systems of records that wholly or partly duplicate existing government-wide systems of records.

The CSB currently maintains, or may in the future maintain, records covered by the following government-wide systems of records: EEOC/GOVT-1 (Equal Employment Opportunity in the Federal Government Complaint and Appeal Records); GSA/GOVT-4 (Contracted Travel Services Program); MSPB/GOVT-1 (Appeals and Case Records); OGE/GOVT-1 (Executive Branch Public Financial Disclosure Reports and Other Ethics Program Records); OGE/GOVT-2 (Confidential Statements of Employment and Financial Interests); OPM/GOVT-1 (General Personnel Records); OPM/GOVT-2 (Employee Performance File System Records); OPM/GOVT-3 (Records of Adverse Actions, Performance Based Reductions in Grade and Removal Actions, and Termination of Probationers); OPM/GOVT-5 (Recruiting, Examining, and Placement Records); OPM/GOVT-9 (File on Position Classification Appeals, Job Grading Appeals, and Retained Grade or Pay Appeals); OPM/GOVT-10 (Employee Medical File System Records).

Statement of General Routine Uses

The following general routine uses are incorporated by this reference into each system of records set forth herein, unless such incorporation is specifically limited in the system description.

1. In the event that a record in a system indicates any violation or potential violation of the law, whether civil, criminal, or regulatory in nature, and whether arising by statute, or by regulation, rule, or order issued pursuant thereto, the relevant record may be referred by authorized CSB personnel as a routine use to the appropriate agency, whether Federal, state, local, or foreign, charged with the responsibility of investigating or prosecuting such violation, or charged with enforcing or implementing the statute, rule, regulation, or order issued pursuant thereto. Such referral shall also include and be deemed to authorize any and all appropriate and necessary uses of such record in a court of law or before an administrative board or hearing.

2. A record covered by a system may be disclosed by authorized CSB personnel as a routine use to designated officers and employees of other agencies and departments of the Federal government having an interest in the individual for employment purposes, including the hiring or retention of any employee, the issuance of a security clearance, the letting of a contract, or the issuance of license, grant, or other benefit by the requesting agency, to the extent that the information is relevant and necessary to the requesting agency's decision on the matter involved.

3. Disclosure of information by authorized CSB personnel to the Department of Justice, or in a proceeding before a court, adjudicative body, or other administrative body before which the CSB is authorized to appear, when:

a. The CSB, or any component thereof; or

b. Any employee of the CSB in his or her official capacity; or

c. Any employee of the CSB in his or her individual capacity where the Department of Justice or the CSB has agreed to represent the employee; or

d. The United States, when the CSB determines that litigation is likely to affect the CSB or any of its components, is a party to litigation or has an interest in such litigation, and the use of such records by the Department of Justice or the CSB is deemed by the CSB to be relevant and necessary to the litigation provided, however, that in each case it has been determined that the disclosure is compatible with the purpose for which the records were collected.

4. Any record in any system of records may be disclosed by authorized CSB personnel as a routine use to the National Archives and Records Administration in the course of records management inspections conducted under authority of 44 U.S.C. 2904 and 2906.

5. Information from any system of records may be released by authorized CSB personnel to auditors in the conduct of an audit of CSB operations or accounts, but only to the extent it is relevant and necessary to the conduct of the audit.

6. Information from any system of records may be released by authorized CSB personnel to the Federal Emergency Management Agency, Office of Inspector General (OIG), to the extent necessary to comply with the OIG's authorized oversight functions.

CSB-1

System name:

Non-competitive Appointment Records.

Security classification:

Unclassified.

System location:

Records in this system are located at the CSB offices, 2175 K Street, NW, Suite 400, Washington, DC 20037-1809. Some records may also be located at the Department of the Treasury, Bureau of the Public Debt, Administrative Resource Center, Parkersburg, West Virginia 26106.

Categories of individuals covered by the system:

Successful and unsuccessful applicants for employment with the CSB in positions that were actually filled by non-competitive appointment.

Categories of records in the system:

Identifying information, such as name(s), social security number, sex, date of birth, home address, mailing address, and home telephone number; applications for employment with the CSB in positions that were actually filled by non-competitive appointment (records relating to competitive appointments are covered by the government-wide system of records OPM/GOVT-5) and related records, such as application letters, resumes, Optional Application for Federal Employment (OF-612), and correspondence between applicants and the CSB; and related records.

Authority for maintenance of the system:

5 U.S.C. 3101; 5 CFR part 293.

Purpose(s):

Records in this system are used to screen the qualifications of and make selections from applicants for employment in positions filled by non-competitive appointment.

Routine uses of records maintained in the system, including categories of users and the purposes of such uses:

1. Evaluation by CSB managers of applicants' qualifications and selection of applicants for positions.

2. Provision by authorized CSB personnel of summary information on personnel for budgetary purposes.

3. Disclosure of information by authorized CSB personnel to the Merit Systems Protection Board or the Office of the Special Counsel in connection with appeals, and such other functions as may be authorized by law.

4. Administrative Resource Center, Bureau of the Public Debt: May receive information from this system as needed to maintain official personnel records for and provide personnel management services to the CSB.

Policies and practices for storing, retrieving, accessing, retaining, and disposing of records in the system:

Storage:

These records are maintained in file folders and on lists and forms.

Retrievability:

These records are retrieved by name and/or social security number.

Safeguards:

Records are located in locked file cabinets with access limited to those personnel whose official duties require access.

Retention and disposal:

Records in this system are maintained in accordance with the National Archives and Records Administration General Records Schedule.

System manager(s) and address:

The records in this system are managed by the Directors of the individual offices which solicited the applications and filled the position. All office directors may be reached at the U.S. Chemical Safety and Hazard Investigation Board, 2175 K Street, NW., Suite 400, Washington, DC 20037.

Notification procedure:

Individuals wishing to inquire whether this system of records contains information about them should contact the Director of the office to which they applied for a position:

Individuals must furnish the following information for their records to be located and identified:

a. Full name.

b. Date of birth.

c. Social security number.

d. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting records procedures:

Individuals wishing to request amendment of their records in this system should contact the appropriate system manager, as described above. For their records to be located and identified, individuals must furnish all of the information specified in the Notification Procedure, and also comply with the CSB Privacy Act regulations codified at 40 CFR part 1602, on verification of identity and amendment of records.

Record source categories:

Information in this system of records is provided by:

a. The individual on whom the record is maintained.

b. Educational institutions.

c. Agency officials and other individuals or entities.

CSB-2

System name:

Payroll and Pay Administration Records.

Security classification:

Unclassified.

System location:

Records in this system are located at the CSB offices, 2175 K Street, NW., Suite 400, Washington, DC 20037-1809. Records may also be located at the Department of the Treasury, Bureau of the Public Debt, Administrative Resource Center, Parkersburg, West Virginia 26106; or at the United States Department of Agriculture, National Finance Center, New Orleans, Louisiana 70161.

Categories of individuals covered by the system:

Current and former CSB employees.

Categories of records in the system:

Identifying information, such as name(s), social security number, sex, date of birth, home address, mailing address, and home telephone number; individual employee pay records; time and attendance source records, such as individual employee time sheets; time and attendance input records, used to input data into a payroll system; employee tax records, such as IRS form W-4 and state equivalents; direct deposit records, such as Direct Deposit Sign-Up Form (SF-1199A); records related to the authorization and use of leave, such as Application for Leave (SF-71); records related to payroll actions, financial transactions, and deductions; overtime and premium pay authorization records; and related records.

Authority for maintenance of the system:

31 U.S.C. 3512.

Purpose(s):

The payroll and pay administration records provide the basic source of factual data about CSB employees' entitlement to pay and related administrative matters. Records in this system have various uses, including processing employee payroll; authorizing overtime, premium pay, and leave; determining status, eligibility, and employees' rights and benefits under pertinent laws and regulations governing Federal employees' pay; satisfying the tax reporting obligations of the CSB and its employees; and providing other information needed for pay administration.

Routine uses of records maintained in the system, including categories of users and the purposes of such uses:

1. Use by authorized CSB personnel for verification of pay status and other basic information regarding employee pay for the general purposes set forth above.

2. Use by authorized CSB personnel for preparation of time and attendance reports and other documentation required to process the biweekly payroll.

3. Provision by authorized CSB personnel of summary information on personnel for budgetary purposes.

4. Disclosure of information by authorized CSB personnel to the Merit Systems Protection Board or the Office of the Special Counsel in connection with appeals, and such other functions as may be authorized by law.

5. Administrative Resource Center, Bureau of the Public Debt: May receive information from this system as needed to process payroll and provide other pay administration services to the CSB.

6. Department of Defense: May receive information from this system as needed to adjust military retirement.

7. Department of Labor: May receive information from this system as needed to process workers' compensation claims.

8. Financial institutions: May receive information from this system as needed to credit accounts for deposits and/or allotments made through payroll deductions.

9. General Accounting Office: May receive information from this system as needed to verify accuracy and legality of disbursements.

10. Internal Revenue Service: May receive information from this system as needed to process Federal income tax.

11. National Finance Center, USDA: May receive information from this system as needed to process payroll and provide other pay administration services to the CSB.

12. Office of Personnel Management: May receive information from this system as needed to maintain records of transfer, retirement, and benefits; and collect anonymous statistical reports.

13. Social Security Administration: May receive information from this system as needed to maintain Social Security records and benefits.

14. State and local government: May receive information from this system as needed to process state and local income tax.

Policies and practices for storing, retrieving, accessing, retaining, and disposing of records in the system:

Storage:

These records are maintained in file folders and on lists and forms.

Retrievability:

These records are retrieved by name and/or social security number.

Safeguards:

Records are located in locked file cabinets with access limited to those personnel whose official duties require access.

Retention and disposal:

CSB payroll and pay administration files are maintained for the period of the employee's service and thereafter in accordance with the National Archives and Records Administration General Records Schedule 2.

System manager(s) and address:

Director of Management Operations, U.S. Chemical Safety and Hazard Investigation Board, 2175 K Street, NW., Suite 400, Washington, DC 20037.

Notification procedure:

Individuals wishing to inquire whether this system of records contains information about them should contact the system manager listed above.

Individuals must furnish the following information for their records to be located and identified:

a. Full name.

b. Date of birth.

c. Social security number.

d. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting record procedures:

Individuals wishing to request amendment of their records related to their pay should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

b. Agency officials and other individuals or entities.

CSB-3

System name:

Staff Resume Book.

Security classification:

Unclassified.

System location:

Records in this system are located at the CSB offices, 2175 K Street, NW, Suite 400, Washington, DC 20037-1809.

Categories of individuals covered by the system:

Members of the CSB's Investigations and Safety Programs staff.

Categories of records in the system:

Identifying information, such as name(s), social security number, sex, date of birth, home address, mailing address, and home telephone number; resumes; and other records summarizing employees' educational background and work experience.

Authority for maintenance of the system:

5 U.S.C. 301.

Purpose(s):

These records provide a source of factual data about investigative employees' mission-related work and educational experience.

Routine uses of records maintained in the system, including categories of users and the purpose of such uses:

1. Use by authorized CSB personnel for verification of basic information regarding employees.

2. Authorized CSB personnel may distribute information from this system of records to bona fide representatives of the media, congressional staffs, state and local governments, or other individuals with a legitimate need to understand the qualifications of the CSB's technical staff.

Policies and practices for storing, retrieving, accessing, retaining, and disposing of records in the system:

Storage:

These records are maintained in file folders and/or in three-ring binders.

Retrievability:

These records are retrieved by name.

Safeguards:

Records are located in locked file cabinets or in locked offices with access limited to those personnel whose official duties require access.

Retention and disposal:

Records in this system are maintained in accordance with the applicable National Archives and Records Administration General Records Schedules.

System manager(s) and address:

Director of Investigations and Safety Programs, U.S. Chemical Safety and Hazard Investigation Board, 2175 K Street, NW, Suite 400, Washington, DC 20037.

Notification procedure:

Individuals wishing to inquire whether this system of records contains information about them should contact the system manager listed above.

Individuals must furnish the following information for their records to be located and identified:

a. Full name.

b. Date of birth.

c. Social security number.

d. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting record procedures:

Individuals wishing to request amendment of their records should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

CSB-4

System name:

Employee Travel Records.

Security classification:

Unclassified.

System location:

Records in this system are located at the CSB offices, 2175 K Street, NW, Suite 400, Washington, DC 20037-1809. Some records may also be located at the Department of the Treasury, Bureau of the Public Debt, Administrative Resource Center, Parkersburg, West Virginia 26106.

Categories of individuals covered by the system:

Current and former CSB employees who have traveled pursuant to authorized official CSB business.

Categories of records in the system:

Identifying information, such as name(s), social security number, sex, date of birth, home address, mailing address, and home telephone number; records related to destination, itinerary, mode, purpose, and dates of travel; travel expense records, such as vouchers and receipts; and related records.

Authority for maintenance of the system:

5 U.S.C. 5707; 31 U.S.C. 3512

Purpose(s):

The employee travel records provide the basic source of factual data about CSB employees' official travel activities. Records in this system have various uses, including the planning, authorization, and tracking of employees' official travel; processing travel vouchers and other travel-related payments; and related purposes.

Routine uses of records maintained in the system, including categories of users and the purposes of such uses:

General routine use number 2 (listed in the Prefatory Statement to this Notice) does not apply to the CSB-4 system.

1. Verification by authorized CSB personnel of travel status and other basic information regarding employees for the general purposes set forth above.

2. Preparation by authorized CSB personnel of documentation required to process travel vouchers and authorizations.

3. Preparation and maintenance by authorized CSB personnel of financial reports and records.

4. Provision by authorized CSB personnel of summary information on travel expenses for budgetary purposes.

5. Disclosure of information by authorized CSB personnel to the Merit Systems Protection Board or the Office of the Special Counsel in connection with appeals, and such other functions as may be authorized by law.

6. Administrative Resource Center, Bureau of the Public Debt: May receive information from this system as necessary to provide travel and administrative support services to the CSB.

7. General Accounting Office: May receive information from this system as necessary to verify the accuracy and legality of disbursements.

Policies and practices for storing, retrieving, accessing, retaining, and disposing of records in the system:

Storage:

These records are maintained in file folders and on lists and forms.

Retrievability:

These records are retrieved by name and/or social security number.

Safeguards:

Records are located in locked file cabinets with access limited to those personnel whose official duties require access.

Retention and disposal:

Records in this system are maintained in accordance with the applicable National Archives and Records Administration General Records Schedules.

System manager(s) and address:

Director of Financial Operations, U.S. Chemical Safety and Hazard Investigation Board, 2175 K Street, NW, Suite 400, Washington, DC 20037.

Notification procedure:

Individuals wishing to inquire whether this system of records contains information about them should contact the system manager listed above.

Individuals must furnish the following information for their records to be located and identified:

a. Full name.

b. Date of birth.

c. Social security number.

d. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting record procedures:

Individuals wishing to request amendment of their records related to their pay should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

b. Agency officials and other individuals or entities.

CSB-5

System name:

General Administrative Records.

Security classification:

Unclassified.

System location:

Records in this system are located at the CSB offices, 2175 K Street, NW, Suite 400, Washington, DC 20037-1809.

Categories of individuals covered by the system:

Current and former CSB employees.

Categories of records in the system:

Identifying information, such as name(s), social security number, sex, date of birth, home address, mailing address, and home telephone number; employee locator records; records related to credit cards and telephone calling cards issued to individual employees, and the use of such cards; employee relocation records; records related to employee parking permits and subsidies, and employee public transit subsidies; records related to the issuance of CSB credentials; and related records.

Authority for maintenance of the system:

5 U.S.C. 301; 31 U.S.C. 3512

Purpose(s):

These records provide the basic source of factual data about general administrative matters. Records in this system have various uses, including tracking and justifying employees' expenditures on government-issued credit and telephone calling cards; issuing parking permits and transit subsidies; contacting employees in the case of personal or official emergencies; and related purposes.

Routine uses of records maintained in the system, including categories of users and the purpose of such uses:

1. Use by authorized CSB personnel for verification of basic information regarding employees for and fulfillment of the general purposes set forth above.

2. Use by authorized CSB personnel for preparation and maintenance of financial reports and records.

3. Use by authorized CSB personnel for provision of summary information for budgetary purposes.

4. Disclosure by authorized CSB personnel of information to the Merit Systems Protection Board or the Office of the Special Counsel in connection with appeals, and such other functions as may be authorized by law.

5. Administrative Resource Center, Bureau of the Public Debt: May receive information from this system as needed to provide administrative support services to the CSB.

6. General Accounting Office: May receive information from this system as needed to verify accuracy and legality of disbursements.

Policies and practices for storing, retrieving, accessing, retaining, and disposing of records in the system:

Storage:

These records are maintained in file folders and on lists and forms.

Retrievability:

These records are retrieved by name and/or social security number.

Safeguards:

Records are located in locked file cabinets with access limited to those personnel whose official duties require access.

Retention and disposal:

Records in this system are maintained in accordance with the applicable National Archives and Records Administration General Records Schedules.

System manager(s) and address:

For records related to credit cards and telephone calling cards:

Director of Financial Operations, U.S. Chemical Safety and Hazard Investigation Board, 2175 K Street, NW, Suite 400, Washington, DC 20037.

For all other records in this system:

Director of Management Operations, U.S. Chemical Safety and Hazard Investigation Board, 2175 K Street, NW, Suite 400, Washington, DC 20037.

Notification procedure:

Individuals wishing to inquire whether this system of records contains information about them should contact the appropriate system manager listed above.

Individuals must furnish the following information for their records to be located and identified:

e. Full name.

f. Date of birth.

g. Social security number.

h. Signature.

Record access procedures:

Individuals wishing to request access to their records should contact the CSB, as specified in the Notification Procedure, above. For their records to be located and identified, individuals must furnish all of the information specified in the Notification Procedure, and also comply with the CSB Privacy Act codified at 40 CFR part 1602, on verification of identity and access to records.

Contesting record procedures:

Individuals wishing to request amendment of their records should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

b. Agency officials.

c. Other individuals or entities.

CSB-6

System name:

Freedom of Information Act and Privacy Act Request and Appeal Records.

Security classification:

Unclassified.

System location:

Records in this system are located at the CSB offices, 2175 K Street, NW, Suite 400, Washington, DC 20037-1809.

Categories of individuals covered by the system:

Individuals who have made requests for information to the CSB under the Freedom of Information Act (FOIA) and/or Privacy Act.

Categories of records in the system:

Identifying information, such as name(s), social security number, sex, date of birth, home address, mailing address, and home telephone number; requests from individuals and related correspondence; and related records.

Authority for maintenance of the system:

5 U.S.C. 552; 552a

Purpose(s):

These records are used to respond to FOIA and Privacy Act requests.

Routine uses of records maintained in the system, including categories of users and the purpose of such uses:

General routine use number 2 (listed in the Prefatory Statement to this Notice) does not apply to the CSB-6 system.

1. Use by authorized CSB personnel to respond to and process FOIA and Privacy Act requests.

2. Use by authorized CSB personnel for preparation of required reports on FOIA and Privacy Act activity.

Policies and practices for storing, retrieving, accessing, retaining, and disposing of records in the system:

Storage:

These records are maintained in file folders and on lists and forms.

Retrievability:

These records are retrieved by name.

Safeguards:

Records are located in locked file cabinets with access limited to those personnel whose official duties require access.

Retention and disposal:

Records in this system are maintained in accordance with the applicable National Archives and Records Administration General Records Schedules.

System manager(s) and address:

FOIA/Privacy Act Coordinator, U.S. Chemical Safety and Hazard Investigation Board, 2175 K Street, NW, Suite 400, Washington, DC 20037.

Notification procedure:

Individuals wishing to inquire whether this system of records contains information about them should contact the system manager listed above.

Individuals must furnish the following information for their records to be located and identified:

a. Full name.

b. Date of birth.

c. Social security number.

d. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting record procedures:

Individuals wishing to request amendment of their records should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

CSB-7

System name:

Mailing Lists.

Security classification:

Unclassified.

System location:

Records in this system are located at the CSB offices, 2175 K Street, NW, Suite 400, Washington, DC 20037-1809.

Categories of individuals covered by the system:

Individuals who have provided personal contact and identification information to CSB officials for the purpose of being kept apprised of CSB activities.

Categories of records in the system:

Identifying information, such as name(s), social security number, sex, date of birth, home address, mailing address, home telephone number, office address and telephone number; and related records.

Authority for maintenance of the system:

5 U.S.C. 301

Purpose(s):

These records provide current contact and related information for individuals who are interested in CSB activities.

Routine uses of records maintained in the system, including categories of users and the purpose of such uses:

The six general routine uses (listed in the Prefatory Statement to this Notice) do not apply to the CSB-7 system.

1. Use by authorized CSB personnel to send information and updates about CSB activities to interested individuals.

Policies and practices for storing, retrieving, accessing, retaining, and disposing of records in the system:

Storage:

These records are maintained in file folders and on lists and forms.

Retrievability:

These records are retrieved by name.

Safeguards:

Records are located in locked file cabinets with access limited to those personnel whose official duties require access.

Retention and disposal:

Records in this system are maintained in accordance with the applicable National Archives and Records Administration General Records Schedules.

System manager(s) and address:

The records in this system are managed by the individual office directors who need to maintain mailing lists in furtherance of their official duties. All office directors may be reached at the U.S. Chemical Safety and Hazard Investigation Board, 2175 K Street, NW, Suite 400, Washington, DC 20037.

Notification procedure:

Individuals wishing to inquire whether this system of records contains information about them should contact the appropriate system manager listed above.

Individuals must furnish the following information for their records to be located and identified:

e. Full name.

f. Date of birth.

g. Social security number.

h. Signature.

Record access procedures:

Individuals wishing to request access to their records should contact the CSB, as specified in the Notification Procedure, above. For their records to be located and identified, individuals must furnish all of the information specified in the Notification Procedure, and also comply with the CSB Privacy Act regulations codified at 40 CFR part 1602, on verification of identity and access to records.

Contesting record procedures:

Individuals wishing to request amendment of their records should contact the system manager listed above. For their records to be located and identified, individuals must furnish all of the information specified in the Notification Procedure, and also comply with the CSB Privacy Act regulations codified at 40 CFR part 1602, on verification of identity and amendment of records.

Record source categories:

Information in this system of records is provided by:

a. The individual on whom the record is maintained.

[FR Doc. 01-7670 Filed 3-28-01; 8:45 am]

BILLING CODE 6350-01-U